DEPARTMENT OF COMMERCE

National Oceanic and Atmospheric Administration

RIN 0648-XF425

Endangered and Threatened Species; Initiation of 5-Year Review for the North Pacific Right Whale

AGENCY: National Marine Fisheries Service (NMFS), National Oceanic and Atmospheric Administration (NOAA), Commerce.

ACTION: Notice of initiation of 5-year review; request for information.

SUMMARY: NMFS announces a 5-year review of the North Pacific right whale (Eubalaena japonica) under the Endangered Species Act of 1973 (ESA), as amended. A 5-year review must be based on the best scientific and commercial data available at the time of the review; therefore, we are requesting submission of any such information on these whales that has become available since the last status review in 2012.

DATES: To allow us adequate time to conduct this review, we must receive your information no later than July 31, 2017. However, we will continue to accept new information about any listed species at any time.

ADDRESSES: You may submit comments on this document, identified by NOAA-NMFS-2017-0046, by either of the following methods:

• Electronic Submission: Submit all electronic public comments via the Federal e-Rulemaking Portal. Go to www.regulations.gov/#!docketDetail;D=NOAA-NMFS-2017-0046, click the “Comment Now!” icon, complete the required fields, and enter or attach your comments.

• Mail: Submit written comments to Jon Kurland, Assistant Regional Administrator for Protected Resources, Alaska Region NMFS, Attn: Ellen Sebastian. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address), confidential information, or otherwise sensitive information submitted voluntarily by the sender will be publicly accessible. NMFS will accept anonymous comments (enter “N/A” in the required fields if you wish to remain anonymous).

FOR FURTHER INFORMATION CONTACT: Verena Gill, NMFS Alaska Region, (907) 271-1937, verena.gill@noaa.gov.

SUPPLEMENTARY INFORMATION: Section 4(c)(2)(A) of the ESA requires that we conduct a review of listed species at least once every five years. The regulations in 50 CFR 424.21 require that we publish a notice in the Federal Register announcing species currently under active review. This notice announces our active review of North Pacific right whales, currently listed as endangered. To ensure that the 5-year review is complete and based on the best available scientific and commercial information, we are soliciting new information from the public, governmental agencies, Tribes, the scientific community, industry, environmental entities, and any other interested parties concerning the status of North Pacific right whales. Categories of requested information include: (1) Species biology and demographics (population trends, distribution, abundance, genetics, etc.); (2) habitat conditions (amount, distribution, suitability, quality, etc.); (3) conservation measures that have been implemented that benefit the species; (4) status and trends of threats; and (5) other new information, data, or corrections including, but not limited to, taxonomic or nomenclatural changes, identification of erroneous information contained in the list of threatened and endangered species, and improved analytical methods, if any. Any new information will be considered during the 5-year review and will also be useful in evaluating the ongoing recovery programs for these whales.

Authority: 16 U.S.C. 1531 et seq.

Dated: June 26, 2017.
Catherine Marzin,
Acting Deputy Director, Office of Protected Resources, National Marine Fisheries Service.

[FR Doc. 2017-13701 Filed 6-29-17; 8:45 am]

BILLING CODE 3510-22-P